COMMISSION ON CIVIL RIGHTS

Sunshine Act Meetings

AGENCY: United States Commission on Civil Rights.

ACTION: Notice of Commission Public Briefing.

DATES: Friday, December 8, 2017, 9:00 a.m. EST.

ADDRESSES: National Place Building, 1331 Pennsylvania Ave. NW., Suite 1150, Washington, DC 20245 (Entrance on F Street NW.).

FOR FURTHER INFORMATION CONTACT: Brian Walch, (202) 376-8371; TTY: (202) 376-8116; publicaffairs@usccr.gov.

SUPPLEMENTARY INFORMATION: The Commission will hold a public briefing: The School-to-Prison Pipeline: The Intersections of Students of Color with Disabilities. This meeting is open to the public.

The Commission's focused investigation will examine school districts' compliance with federal laws designed to ensure the safety of students of color with disabilities against discrimination, and whether laws adequately protect these students from discriminatory disciplinary actions and policies.

The Commission will hear presentations from diverse stakeholders, including advocacy groups and academics. Following these presentations, the Commission will hold an open comment period from 1:00-2:00 p.m. EST. Individuals who wish to participate in the open comment period should sign-up at the Commission between 9:30 a.m. and 12:30 p.m. EST. Each individual will have up to three (3) minutes to speak, with spots allotted on a first-come, first-serve basis. In addition, the Commission welcomes submission of additional material for consideration as we prepare a report following the briefing; please submit such information to schooldiscipline@usccr.gov.

The event will live-stream at https://www.youtube.com/user/USCCR/videos and there will be a public call-in line (listen-only): 1-800-479-9001; conference ID 8362937. If attending in person, we ask that you RSVP to publicaffairs@usccr.gov. Persons with disabilities who need accommodation should contact Pamela Dunston at (202) 376-8105 or at access@usccr.gov at least three business days before the date of the meeting.

Agenda

I. Introductory Remarks by Chair Catherine E. Lhamon 9:00-9:10 a.m.

II. Panel One: Federal Education Policy 9:10-10:30 a.m.

• Anurima Bhargava: Former Chief of Educational Opportunities Section, Civil Rights Division, U.S. Department of Justice

• Eve Hill: Former Deputy Assistant Attorney General, Civil Rights Division, U.S. Department of Justice

• Kristen Harper: Former Senior Policy Advisor, Office of Special Education and Rehabilitative Services, U.S. Department of Education

• Rebecca Cokley: Former Executive Director, National Council on Disability

III. Break 10:30-10:40 a.m.

IV. Panel Two: Stakeholders, Researchers, Experts on Special Education and the School-to-Prison Pipeline 10:40 a.m.-12:00 p.m.

• Max Eden: Senior Fellow, Manhattan Institute

• James Scanlan: Attorney studying statistical discrimination on educational and achievement disparities and studies federal education statutes

• Dan Losen: Director, Center for Civil Rights Remedies, University of California, Los Angeles

• Monique Morris: Founder and President, National Black Women's Justice Institute, with expertise in the areas of education, civil rights, juvenile and social justice

V. Break 12:00-1:00 p.m.

VI. Open Comment Period 1:00-2:00 p.m.

VII. Adjourn 2:00 p.m.

Dated: November 30, 2017.
Brian Walch,
Director, Communications and Public Engagement.

[FR Doc. 2017-26145 Filed 11-30-17; 11:15 am]

BILLING CODE 6335-01-P